DEPARTMENT OF THE INTERIOR

Bureau of Land Management

[ID-933-1430-01; DK-G08-0001; IDI-04790, IDI-15482]

Public Land Order No. 7722; Revocation of Secretarial Order dated October 29, 1908, and Partial Revocation of Public Land Order No. 1703; Idaho

AGENCY: Bureau of Land Management, Interior.

ACTION: Public land order.

SUMMARY: This order revokes in its entirety a Secretarial Order insofar as it affects 135.20 acres of National Forest System land within the Kaniksu National Forest withdrawn from surface entry and mining and reserved for use of the Forest Service for the Ethel Ranger Station. This order partially revokes Public Land Order No. 1703 insofar as it affects a 0.64 acre parcel of National Forest System land reserved for use by the United States Army Corps of Engineers for flood control purposes in connection with the Albeni Falls Project. This order also opens 80.64 acres of the lands to surface entry. The remaining lands will remain closed to surface entry and mining due to an overlapping withdrawal.

DATES: Effective Date: February 2, 2009.

FOR FURTHER INFORMATION CONTACT: Jackie Simmons, BLM Idaho State Office, 1387 S. Vinnell Way, Boise, Idaho 83709, 208-373-3867.

SUPPLEMENTARY INFORMATION: The revocation is needed to facilitate a Forest Service land conveyance pursuant to the United States Forest Service's Small Tracts Act (16 U.S.C. 1185 (2000)).

Order

By virtue of the authority vested in the Secretary of the Interior by Section 204 of the Federal Land Policy and Management Act of 1976, 43 U.S.C. 1714 (2000), it is ordered as follows:

1. The Secretarial Order dated October 29, 1908, which withdrew National Forest System lands for the Ethel Ranger Station, is hereby revoked in its entirety as to the following described lands:

Boise Meridian

Kaniksu National Forest

T. 54 N., R. 1 W.,

Sec. 10, lot 2, S½NE¼.

The area described contains 135.20 acres in Bonner County.

2. Public Land Order No. 1703, which withdrew National Forest System lands from surface entry and mining and reserved them for use of the United States Army Corps of Engineers for flood control purposes in connection with the Albeni Falls Project, is hereby revoked insofar as it affects the following described lands:

Boise Meridian

T. 54 N., R. 1 W.,

Sec. 10, lot 2, that portion commencing in the center of Section 10 at a found 2½ inches and 30 inches long aluminum pipe with a standard 3¼ inch aluminum cap set by Bureau of Land Management (BLM) and being buried 10 inches below the surface of road 278, to which a tamarack marked “C¼ S10 BT” and having a diameter of 15 inches bears north 64° ¾′ east and a distance of 41.6 feet, also to which a lodgepole pine marked “C¼ S10 B 10” and have a diameter of 17 inches bears south 44° west and a distance of 33.7 feet; thence south 89° 48′ west, a distance of 649.8 feet (9.83 chains) along the east-west centerline of said Section 10 to the northeast corner of government lot 5 and a found 2½ inches and 30 inches long aluminum pipe with a standard 3¼ inch aluminum cap set by BLM, said corner of government lot 5 also being the POINT OF BEGINNING and the southwest corner of subject property; thence north a distance of 65.0 feet to the northwest corner of subject property and a set ¾ inch and 24 inches long rebar with a 3¾ inch aluminum cap; thence north 89° 48′ east, a distance of 431.8 feet to the northeast corner of subject property and a set ¾ inch and 24 inches long rebar with a 3¾ inch aluminum cap; thence south a distance of 65.0 feet to the southeast corner of subject property and a set ¾ inch and 24 inches long rebar with a 3¾ inch aluminum cap, said southeast corner being located on said east-west centerline of said Section 10; thence south 89° 48′ west, a distance of 431.8 feet to the POINT OF BEGINNING of subject property.

The area described contains 0.64 acres, more or less in Bonner County.

3. At 9 a.m. on February 2, 2009, the lands described as the S½NE¼, of sec. 10, T. 54 N., R. 1 W., Boise Meridian, and the lands described in Paragraph 2 above and aggregating 80.64 acres, shall be opened to such forms of disposition as may by law be made of National Forest System lands, subject to valid existing rights, the provisions of existing withdrawals, other segregations of record, and the requirements of applicable law.

Dated: December 12, 2008.
C. Stephen Allred,
Assistant Secretary—Land and Minerals Management.

[FR Doc. E8-31229 Filed 12-31-08; 8:45 am]

BILLING CODE 3410-11-P